ENVIRONMENTAL PROTECTION AGENCY

[ER-FRL-6660-8]

Environmental Impact Statements; Notice of Availability

Responsible Agency: Office of Federal Activities, General Information (202) 564-7167 or http://www.epa.gov/compliance/nepa/. Weekly receipt of Environmental Impact Statements filed February 14, 2005, through February 18, 2005, pursuant to 40 CFR 1506.9.

EIS No. 050065, Final EIS, AFS, MT, North Belts Travel Plan and the Dry Range Project, Provision of Motorized and Non-motorized Recreation, Helena National Forest, Broadwater, Lewis and Clark and Meagher Counties, MT, Wait Period Ends March 28, 2005, Contact: Beth Ihle (406) 266-3425.

EIS No. 050066, Draft EIS, FAA, MA, New Bedford Regional Airport Improvements Project, To Enhance Aviation Capacity, Air Traffic, Jet Traffic, Air Cargo and General Aviation Traffic, Southeastern Massachusetts Region, City of New Bedford, Bristol County, MA, Comment Period Ends: April 20, 2005, Contact: John C. Silva (781) 238-7602.

EIS No. 050067, Final EIS, FHW, OR, U.S. 101/Oregon Coast Highway Reconstruction, Pacific Way in the City of Gerhart to Dooley Bridge in the City of Seaside, Funding and COE Section 404 Permit, Clatsop County, OR, Wait Period Ends: March 28, 2005, Contact: John Gernhauser (503) 399-5749.

EIS No. 050068, Draft EIS, AFS, AK, OK, Quachita National Forest, Proposed Revised Land and Resource Management Plan, Impementation, several counties, AR and LeFlore and McCurtain Counties, OK, Comment Period Ends: April 11, 2005, Contact: Bill Pell (501) 321-5320. This document is available on the Internet at: http://www.aokforests.com/.

EIS No. 050069, Final Supplement, BLM, NV, Pipeline/South Pipeline Pit Expansion Project, Updated Information on Modifying the Extending Plan of Operations (Plan), Gold Acres Mining District, Launder County, NV, Wait Period Ends: March 28, 2005, Contact: Pam Jarnecke (775) 635-4144.

EIS No. 050070, Final EIS, FHW, LA, Kansas Lane Connector Project, Construction between U.S. 80 (Desiard Street) and U.S. 165 and the Forsythe Avenue Extension, U.S. Army COE Section 10 and 404 Permits Issuance, City of Monroe, Quachita Parish, LA, Wait Period Ends: March 31, 2005, Contact: William C. Farr (225) 757-7615.

EIS No. 050071, Final EIS, FHW, MI, I-94/Rehabilitation Project, Transportation Improvements to a 6.7 mile portion of I-94 from east I-96 west end to Conner Avenue on the east end, Funding and NPDES Permit, City of Detroit, Wayne County, MI, Wait Period Ends: March 28, 2005, Contact: Abdelmoez Abdalla (517) 702-1820.

EIS No. 050072, Draft EIS, FHW, CA, 1st Street Viaduct and Street Widening Project, To Replace Two Traffic Lanes on the 1st Street Viaduct between Vignes Street and Mission road, Funding, in the City and County of Los Angeles, CA, Comment Period Ends: April 11, 2005, Contact: Cindy Vigue (916) 498-5042.

EIS No. 050073, Final EIS, AFS, ID, South Bear River Range Allotment Management Plan Revisions, Continued Livestock Grazing on Ten Allotments, Caribou-Targhee National Forest, Montpelier Ranger District, Bear Lake and Franklin Counties, ID, Wait Period Ends: March 28, 2005, Contact: Heidi Heyrend (208) 847-0375.

EIS No. 050074, Draft EIS, NAS, FL, New Horizons Mission to Pluto, Continued Preparations and Implementation to Explore Pluto and Potentially the Recently Discovered Kuiper Belt, Cape Canaveral Air Force Station, FL , Comment Period Ends: April 11, 2005, Contact: Kurt Lindstrom (202) 358-1588.

EIS No. 050075, Draft EIS, FRC, NJ, DE, PA, Crown Landing Liquefied Natural Gas Terminal, Construct and Operate in Gloucester County, NJ and New Castle County, DE; and Logan Lateral Project, Construct and Operate a New Natural Gas Pipeline and Ancillary Facilities in Gloucester County, NJ and Delaware County, PA, Comment Period Ends: April 18, 2005, Contact: Magalie R. Salas (202) 502-8371. The Federal Energy Regulatory Commission and U.S. Army Corps of Engineers are Joint Lead Agencies for the above Project.

EIS No. 050076, Draft EIS, NOA, ME, RI, CT, Atlantic Large Whale Take Reduction Plan, Proposed Amendments to Implement Specific Gear Modifications for Trap/Pot and Gillnet Fisheries, Broad-Based Gear Modifications, Exclusive Economic Zone (EEZ), ME, CT and RI , Comment Period Ends: April 26, 2005, Contact: Mary Colligan (978) 281-9328.

EIS No. 050077, DRAFT EIS, AFS, AR, Ozark-St. Francis National Forests, Proposed Revised Land and Resource Management Plan, Implementation, Several Counties, AR, Comment Period Ends: May 26, 2005, Contact: Cary Frost (479) 864-7507.

Amended Notices

EIS No. 040554, Draft EIS, FHW, CO, Programmatic-I-70 Mountain Corridor Tier 1 Project, from Glenwood Springs and C-470 Proposes to Increase Capacity, Improve Accessibility and Mobility, and Decrease Congestion, Colorado, Garfield, Eagle, Summit, Clear Creek and Jefferson Counties, CO, Comment Period Ends: May 24, 2005, Contact: Jean Wallace (720) 963-3015.

Revision of FR Notice Published on 12/10/04: CEQ Comment Period Ending 03/10/2005 has been Extended to 05/24/2005.

Dated: February 22, 2005.
Robert W. Hargrove,
Director, NEPA Compliance Division, Office of Federal Activities.

[FR Doc. 05-3686 Filed 2-24-05; 8:45 am]

BILLING CODE 6560-50-P